DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | *Elevation in feet (NGVD) +Elevation in feet (NAVD) #Depth in feet above ground ‸Elevation in meters (MSL) Modified
City of Fort Yukon, Alaska
Docket No.: FEMA-B-1029
Alaska | City of Fort Yukon | Yukon River | Static BFE approximately 198 feet south/southeast of the intersection of 1st Avenue and Husky Avenue | +445
|  |  | Static BFE at the intersection of the Yukon River and Airport Road | +445
*National Geodetic Vertical Datum.
+North American Vertical Datum.
#Depth in feet above ground.
‸Elevation in meters (MSL).
ADDRESSES
City of Fort Yukon
Maps are available for inspection at East 7th Street, Fort Yukon, AK 99740.
City of Togiak, Alaska
Docket No.: FEMA-B-1029
Alaska | City of Togiak | Togiak Bay | Static BFE approximately 2,427 feet southwest of the southwest end of Togiak Airport | +8
|  |  | Static BFE at the intersection of the Limit of Detailed Study and the shoreline | +8
*National Geodetic Vertical Datum.
+North American Vertical Datum.
#Depth in feet above ground.
‸Elevation in meters (MSL).
ADDRESSES
City of Togiak
Maps are available for inspection at 2nd Avenue and G Street, Togiak, AK 99678.

Flooding source(s) | Location of referenced elevation | *Elevation in feet (NGVD) +Elevation in feet (NAVD) #Depth in feet above ground ‸Local Tidal Datum (LTD) Modified | Communities affected
Lake and Peninsula Borough, Alaska, and Incorporated Areas
Docket No.: FEMA-B-1029
Chignik Lake | Entire shoreline | ‸16 | Lake and Peninsula Borough.
*National Geodetic Vertical Datum.
+North American Vertical Datum.
#Depth in feet above ground.
‸Local Tidal Datum.
ADDRESSES
Lake and Peninsula Borough
Maps are available for inspection at P.O. Box 495, King Salmon, AK 99613.

Flooding source(s) | Location of referenced elevation | *Elevation in feet (NGVD) +Elevation in feet (NAVD) #Depth in feet above ground ‸Elevation in meters (MSL) Modified | Communities affected
Washington County, Minnesota, and Incorporated Areas
Docket No.: FEMA-B-7768
10th Street Basin | Entire shoreline | +885 | City of Afton.
10th Street and Neal Avenue Basin | Entire shoreline | +867 | City of Afton.
8th Street Basin | Entire shoreline | +880 | City of Afton.
Barker Lake | Entire shoreline | +891 | City of Hugo, Unincorporated Areas of Washington County.
Bay Lake | Entire shoreline | +891 | Unincorporated Areas of Washington County.
Cloverdale Lake | Entire shoreline | +907 | Unincorporated Areas of Washington County.
East Boot Lake | Entire shoreline | +920 | Unincorporated Areas of Washington County.
Fish Lake | Entire shoreline | +954 | City of Scandia.
Forest Lake | Entire shoreline | +903 | City of Forest Lake.
Freidrich Pond | Entire shoreline | +913 | City of Lake Elmo.
German Lake | Entire shoreline | +959 | City of Scandia.
Klawitter Pond | Entire shoreline | +963 | City of Lake Elmo.
Kramer Pond | Entire shoreline | +914 | City of Lake Elmo.
Legion Pond | Entire shoreline | +889 | City of Lake Elmo.
Maple Marsh | Entire shoreline | +975 | Unincorporated Areas of Washington County.
McDonald Lake | Entire shoreline | +892 | Unincorporated Areas of Washington County.
Mississippi River | Approximately 1,850 feet upstream of southern county boundary | +691 | City of Cottage Grove, City of Hastings, City of Newport, City of St. Paul Park, Unincorporated Areas of Washington County.
| Approximately 1,200 feet downstream of southern county boundary | +704 |
Mooers Lake Channel | At the convergence with the Mississippi River | +697 | City of Cottage Grove, Unincorporated Areas of Washington County.
| Just downstream of Grey Cloud Island Drive South | +697 |
Raleigh Creek | Approximately 180 feet upstream of the confluence with Lake Elmo | +899 | City of Lake Elmo, City of Oakdale.
| Approximately 845 feet upstream of 31st Street North | +975 |
Silver Lake | Entire shoreline | +991 | City of Oakdale.
South Branch | At the confluence with Clearwater Creek | +910 | City of Hugo.
Clearwater Creek | Approximately 950 feet upstream of the confluence with Clearwater Creek | +911 |
St. Croix River | Approximately 16,265 feet downstream of the confluence with Interstate 94 | +692 | Unincorporated Areas of Washington County, City of Afton, City of Bayport, City of Lake St. Croix Beach, City of Lakeland, City of Lakeland Shores, City of Marine on St. Croix, City of Oak Park Heights, City of St. Mary's Point, City of Stillwater.
| Approximately 23,050 feet downstream of SOO Line Railroad | +698 |
Staples Lake | Entire shoreline | +950 | Unincorporated Areas of Washington County.
Sunfish Lake | Entire shoreline | +899 | City of Lake Elmo.
Tingley Springs | Entire shoreline | +931 | City of Hugo.
Unnamed Wetland (DNR ID No. 82015600) | Entire shoreline | +962 | City of Hugo, City of Forest Lake.
Unnamed Wetland (DNR ID No. 82016500) | Entire shoreline | +964 | City of Forest Lake.
Unnamed Wetland (DNR ID No. 82021200) | Entire shoreline | +965 | City of Forest Lake, City of Scandia.
Unnamed Wetland (DNR ID No. 82021300) | Entire shoreline | +966 | City of Scandia.
Unnamed Wetland (DNR ID No. 82021600) | Entire shoreline | +936 | City of Forest Lake, City of Hugo.
Unnamed Wetland (DNR ID No. 82022000) | Entire shoreline | +958 | City of Forest Lake, City of Hugo.
Unnamed Wetland (DNR ID No. 82022100) | Entire shoreline | +940 | City of Hugo.
Unnamed Wetland (DNR ID No. 82022200) | Entire shoreline | +948 | City of Hugo.
Unnamed Wetland (DNR ID No. 82022300) | Entire shoreline | +983 | Unincorporated Areas of Washington County, City of Hugo.
Unnamed Wetland (DNR ID No. 82022400) | Entire shoreline | +957 | City of Hugo.
Unnamed Wetland (DNR ID No. 82022500) | Entire shoreline | +974 | City of Hugo.
Unnamed Wetland (DNR ID No. 82022700) | Entire shoreline | +945 | City of Hugo.
Unnamed Wetland (DNR ID No. 82022900) | Entire shoreline | +952 | City of Hugo.
Unnamed Wetland (DNR ID No. 82031200) | Entire shoreline | +910 | Unincorporated Areas of Washington County.
Unnamed Wetland (DNR ID No. 82035000) | Entire shoreline | +1005 | City of Grant.
Unnamed Wetland North (DNR ID No. 82031100) | Entire shoreline | +916 | Unincorporated Areas of Washington County.
Unnamed Wetland South (DNR ID No. 82031100) | Entire shoreline | +918 | Unincorporated Areas of Washington County.
Valley Branch | Approximately 345 feet downstream of Putman Boulevard South | +693 | City of Afton.
| At West Metcalf Marsh Outfall | +813 |
Valley Creek | At the confluence with Valley Branch | +714 | City of Afton.
| Approximately 2,080 feet upstream of 22nd Street South (most upstream crossing) | +907 |
Valley Creek Tributary | At the confluence with Valley Creek | +792 | City of Afton.
| Approximately 3,265 feet upstream of the confluence with Valley Creek | +812 |
West Boot Lake | Entire shoreline | +920 | Unincorporated Areas of Washington County.
West Metcalf Marsh | Entire shoreline | +813 | City of Afton.
White Rock Lake | Entire shoreline | +966 | City of Scandia.
*National Geodetic Vertical Datum.
+North American Vertical Datum.
#Depth in feet above ground.
‸Elevation in meters (MSL).
ADDRESSES
City of Afton
Maps are available for inspection at 3033 St. Croix Trail South, Afton, MN 55001.
City of Bayport
Maps are available for inspection at 294 North 3rd Street, Bayport, MN 55003.
City of Cottage Grove
Maps are available for inspection at 7516 80th Street South, Cottage Grove, MN 55016.
City of Forest Lake
Maps are available for inspection at 220 North Lake Street, Forest Lake, MN 55025.
City of Grant
Maps are available for inspection at 111 Wildwood Road, Willernie, MN 55090.
City of Hastings
Maps are available for inspection at 101 4th Street East, Hastings, MN 55033.
City of Hugo
Maps are available for inspection at 14669 Fitzgerald Avenue North, Hugo, MN 55038.
City of Lake Elmo
Maps are available for inspection at 3800 Laverne Avenue, Lake Elmo, MN 55042.
City of Lake St. Croix Beach
Maps are available for inspection at 1919 Quebec Avenue South, Lake St. Croix Beach, MN 55043.
City of Lakeland
Maps are available for inspection at 690 Quinnell Avenue North, Lakeland, MN 55043.
City of Lakeland Shores
Maps are available for inspection at 1858 Ramada Avenue South, Lakeland Shores, MN 55043.
City of Marine on St. Croix
Maps are available for inspection at 121 Judd Street, Marine on St. Croix, MN 55047.
City of Newport
Maps are available for inspection at 596 7th Avenue, Newport, MN 55055.
City of Oak Park Heights
Maps are available for inspection at 14168 Oak Park Boulevard North, Oak Park Heights, MN 55082.
City of Oakdale
Maps are available for inspection at 1584 Hadley Avenue North, Oakdale, MN 55128.
City of Scandia
Maps are available for inspection at 13809 Scandia Trail, Scandia, MN 55073.
City of St. Mary's Point
Maps are available for inspection at 16491 St. Mary's Drive South, St. Mary's Point, MN 55043.
City of St. Paul Park
Maps are available for inspection at 600 Portland Avenue, St. Paul Park, MN 55071.
City of Stillwater
Maps are available for inspection at 106 South Main Street, Stillwater, MN 55082.
Unincorporated Areas of Washington County
Maps are available for inspection at 14949 62nd Street North, Stillwater, MN 55082.
Lauderdale County, Mississippi, and Incorporated Areas
Docket No.: FEMA-B-1018
McLemore Branch | Approximately 2,427 feet upstream of the confluence with Newell Branch | +357 | Unincorporated Areas of Lauderdale County, City of Meridian..
| Approximately 3,375 feet upstream of Windmill Drive | +403 |
Sowashee Creek Tributary 10 | Approximately 700 feet downstream of Dale Drive | +360 | Unincorporated Areas of Lauderdale County, Town of Marion.
| Approximately 710 feet upstream of Cotton Gin Road | +399 |
Sowashee Creek Tributary 8 | Approximately 990 feet upstream of the confluence of Sowashee Creek Tributary 10 | +388 | Unincorporated Areas of Lauderdale County, Town of Marion.
| Approximately 2,475 feet upstream of State Highway 39 | +464 |
*National Geodetic Vertical Datum.
+North American Vertical Datum.
#Depth in feet above ground.
‸Elevation in meters (MSL).
ADDRESSES
City of Meridian
Maps are available for inspection at City Hall, 601 24th Avenue, Meridian, MS 39302.
Town of Marion
Maps are available for inspection at the Town Hall, 6021 Dale Drive, Marion, MS 39342.
Unincorporated Areas of Lauderdale County
Maps are available for inspection at the Tax Assessor's Office, 500 Constitution Avenue, Meridian, MS 39301.
Lee County, Mississippi, and Incorporated Areas
Docket No.: FEMA-B-7773
Campbelltown Creek | Approximately 375 feet upstream of State Highway 145 | +340 | Unincorporated Areas of Lee County, City of Baldwyn.
| Approximately 4,802 feet upstream of County Road 2790 | +359 |
Chiwapa Creek | Approximately 3,480 feet upstream of the confluence with Chiwapa Creek Tributary 15 | +269 | Unincorporated Areas of Lee County.
| Approximately 3,180 feet upstream of the confluence with Chiwapa Creek Tributary 16 | +274 |
Coonewah Creek | At Interstate 45 | +242 | Unincorporated Areas of Lee County, Town of Shannon.
| Approximately 6,220 feet upstream of State Highway 145 | +252 |
Coonewah Creek Tributary 3 | Approximately 1,210 feet downstream of County Road 484 | +254 | Unincorporated Areas of Lee County.
| Approximately 620 feet upstream of County Road 520 | +266 |
Euclatubba Creek | At the confluence with Mud Creek | +280 | Unincorporated Areas of Lee County, Town of Saltillo.
| Approximately 1,990 feet upstream of State Highway 145 | +302 |
Mud Creek | Approximately 4,465 feet downstream of Interstate 78 | +266 | Unincorporated Areas of Lee County, City of Tupelo, Town of Saltillo.
| Approximately 80 feet upstream of County Road 681 | +289 |
Reeds Branch | Approximately 2,410 feet downstream of the confluence with Reeds Branch Tributary 1 | +269 | Unincorporated Areas of Lee County.
| Approximately 1,565 feet upstream of County Road 900 | +302 |
Sand Creek | At the confluence with Mud Creek | +280 | Unincorporated Areas of Lee County, Town of Saltillo.
| At State Highway 363 | +307 |
Sand Creek Tributary 1 | At the confluence with Sand Creek | +299 | Unincorporated Areas of Lee County, Town of Saltillo.
| Approximately 2,190 feet upstream of Fellowship Road | +326 |
Sand Creek Tributary 2 | At the confluence with Sand Creek | +304 | Town of Saltillo.
| Approximately 6,890 feet upstream of the confluence with Sand Creek | +343 |
Town Creek | Approximately 1,575 feet downstream of the confluence with Kings Creek | +257 | Unincorporated Areas of Lee County, City of Tupelo.
| Approximately 2,500 feet upstream of Mount Vernon Road | +279 |
| Approximately 1,070 feet downstream of the confluence with Town Creek Tributary 9 | +291 |
| At the Lee/Pontotoc county boundary | +328 |
Town Creek Tributary 1 | Approximately 1,900 feet downstream of railroad | +226 | Unincorporated Areas of Lee County, Town of Nettleton.
| Approximately 1,080 feet upstream of railroad | +238 |
*National Geodetic Vertical Datum.
+North American Vertical Datum.
#Depth in feet above ground.
‸Elevation in meters (MSL).
ADDRESSES
City of Baldwyn
Maps are available for inspection at City Hall, 202 South 2nd Street, Baldwyn, MS 38824.
City of Tupelo
Maps are available for inspection at the Planning Department, City Hall, 117 North Broadway, 2nd Floor, Tupelo, MS 38802.
Town of Nettleton
Maps are available for inspection at the Town Hall, 124 Short Street, Nettleton, MS 38858.
Town of Saltillo
Maps are available for inspection at 205 South 2nd Street, Saltillo, MS 38866.
Town of Shannon
Maps are available for inspection at the Town Hall, 1426 North Street, Shannon, MS 38868.
Unincorporated Areas of Lee County
Maps are available for inspection at the County Courthouse, 201 West Jefferson, Suite A, Tupelo, MS 38801.
Lake County, Ohio, and Incorporated Areas
Docket No.: FEMA-B-7735
Heisley Creek | On the upstream side of CSX Railroad | +640 | Unincorporated Areas of Lake County, City of Mentor, City of Painesville.
| Approximately 800 feet upstream of Jackson Street | +663 |
Wasson Ditch | On the upstream side of CSX Railroad | +641 | City of Mentor, City of Painesville.
| Approximately 200 feet upstream of CSX Railroad | +641 |
Lake Erie | Entire coastline from the western boundary with Cuyahoga County to the eastern boundary with Ashtabula County | +576 | City of Eastlake, City of Mentor, City of Mentor-on-the-Lake, City of Willoughby, City of Willowick, Village of Fairport Harbor, Village of Lakeline, Village of North Perry, Village of Timberlake.
Grand River/Lake Erie Backwater | Village of Grand River northeastern corporate limit | +576 | Village of Grand River.
| 220 feet upstream of Fairport, Painesville, and Eastern Railway | +576 |
*National Geodetic Vertical Datum.
+North American Vertical Datum.
#Depth in feet above ground.
‸Elevation in meters (MSL).
ADDRESSES
City of Eastlake
Maps available for inspection at 35150 Lakeshore Boulevard, Eastlake, OH 44095.
City of Mentor
Maps available for inspection at the Office of the City Engineer, 8500 Civic Center Boulevard, Mentor, OH 44060.
City of Mentor-on-the-Lake
Maps available for inspection at 5860 Andrews Road, Mentor-on-the-Lake, OH 44060.
City of Painesville
Maps available for inspection at 7 Richmond Street, Painesville, OH 44077.
City of Willoughby
Maps available for inspection at 1 Public Square, Willoughby, OH 44094.
City of Willowick
Maps available for inspection at 31230 Vine Street, Willowick, OH 44095.
Unincorporated Areas of Lake County
Maps available for inspection at the County Engineer's Office, 550 Blackbrook Road, Painesville, OH 44077.
Village of Fairport Harbor
Maps available for inspection at 220 3rd Street, Fairport Harbor, OH 44077.
Village of Grand River
Maps available for inspection at 205 Singer Avenue, Grand River, OH 44045.
Village of Lakeline
Maps available for inspection at the Village Hall, 33801 Lake Shore Boulevard, Lakeline, OH 44095.
Village of North Perry
Maps available for inspection at 4449 Lockwood Road, North Perry, OH 44081.
Village of Timberlake
Maps available for inspection at 11 East Shore Boulevard, Timberlake, OH 44095.
Monroe County, Tennessee, and Incorporated Areas
Docket No.: FEMA-B-1024
Sweetwater Creek | 1,430 feet downstream of North Main Street | +888 | City of Sweetwater, Unincorporated Areas of Monroe County.
| 1,655 feet upstream of State Highway 68 | +920 |
*National Geodetic Vertical Datum.
+North American Vertical Datum.
#Depth in feet above ground.
‸Elevation in meters (MSL).
ADDRESSES
City of Sweetwater
Maps are available for inspection at 203 Monroe Street, Sweetwater, TN 37874.
Unincorporated Areas of Monroe County
Maps are available for inspection at 310 Tellico Street, Suite 2, Madisonville, TN 37354.
Anderson County, Texas, and Incorporated Areas
Docket No.: FEMA-B-1017
Bassett Creek | Approximately 2,828 feet downstream from the intersection of Bassett Road and Bassett Creek | +322 | Unincorporated Areas of Anderson County.
| Approximately 1,619 feet downstream from the intersection of Bassett Road and Bassett Creek | +326 |
Wells Creek | Approximately 1,829 feet downstream from the confluence of Wells Creek, Wells Creek Northwest, and Wells Creek Tributary South | +374 | Unincorporated Areas of Anderson County.
| Approximately 373 feet downstream from North Loop 256 | +374 |
| Approximately 1,020 feet downstream from Moody Street | +381 |
*National Geodetic Vertical Datum.
+North American Vertical Datum.
#Depth in feet above ground.
‸Elevation in meters (MSL).
ADDRESSES
Unincorporated Areas of Anderson County
Maps are available for inspection at the County Courthouse, 500 North Church Street, Palestine, TX 75801.
Green Lake County, Wisconsin, and Incorporated Areas
Docket No.: FEMA-B-7755
Silver Creek | At County Highway A | +802 | Unincorporated Areas of Green Lake County.
| Approximately 2.1 miles upstream of Spaulding Hill Road at the county boundary | +804 |
*National Geodetic Vertical Datum.
+North American Vertical Datum.
#Depth in feet above ground.
‸Elevation in meters (MSL).
ADDRESSES
Unincorporated Areas of Green Lake County
Maps are available for inspection at the Zoning Department, 492 Hill Street, Green Lake, WI 54941.
Rusk County, Wisconsin, and Incorporated Areas
Docket No.: FEMA-B-7778
Chippewa River | At county boundary with Chippewa County | +1046 | Unincorporated Areas of Rusk County.
| Approximately 7.5 miles upstream of County Highway E | +1065 |
Flambeau River | At the confluence with the Chippewa River | +1054 | Unincorporated Areas of Rusk County, City of Ladysmith.
| Approximately 1.5 mile upstream of U.S. Highway 8 | +1120 |
Flambeau River | At Dairyland Reservoir | +1184 | Unincorporated Areas of Rusk County.
| At Big Falls Dam | +1190 |
*National Geodetic Vertical Datum.
+North American Vertical Datum.
#Depth in feet above ground.
‸Elevation in meters (MSL).
ADDRESSES
City of Ladysmith
Maps are available for inspection at City Hall, 120 Miner Avenue West, Ladysmith, WI 54848.
Unincorporated Areas of Rusk County
Maps are available for inspection at the County Courthouse, 311 East Miner Avenue, Ladysmith, WI 54848.

(Catalog of Federal Domestic Assistance No. 97.022, “Flood Insurance.”)

Sandra K. Knight,
Deputy Assistant Administrator for Mitigation, Mitigation Directorate, Department of Homeland Security, Federal Emergency Management Agency.

[FR Doc. 2010-907 Filed 1-19-10; 8:45 am]

BILLING CODE 9110-12-P